DEPARTMENT OF THE INTERIOR

Fish and Wildlife Service

50 CFR Part 17

RIN 1018-AV16

Endangered and Threatened Wildlife and Plants; Adding Four Marine Taxa to the List of Endangered and Threatened Wildlife

AGENCY: Fish and Wildlife Service, Interior.

ACTION: Final rule.

SUMMARY: We, the U.S. Fish and Wildlife Service (Service), are adding four marine taxa to the List of Endangered and Threatened Wildlife (List) in accordance with the Endangered Species Act of 1973, as amended. These amendments are based on previously published determinations by the National Marine Fisheries Service (NMFS), National Oceanic and Atmospheric Administration, Department of Commerce, which has jurisdiction for these species. These four taxa are the Southern Distinct Population Segment (DPS) of green sturgeon (Acipenser medirostris), staghorn (Acropora cervicornis) and elkhorn (Acropora palmata) corals, and the Southern Resident killer whale DPS (Orcinus orca).

DATES: This rule is effective April 4, 2007.

Applicability dates: The Southern DPS of the North American green sturgeon (Acipenser medirostris) listing is applicable as of June 6, 2006. The elkhorn coral (Acropora palmata) and staghorn coral (Acropora cervicornis) listing is applicable as of June 8, 2006. The Southern Resident killer whale DPS (Orcinus orca) listing is applicable as of February 16, 2006.

FOR FURTHER INFORMATION CONTACT: Branch of Listing, Endangered Species Program, U.S. Fish and Wildlife Service, 4401 N. Fairfax Drive, Mail Stop 420, Arlington, Virginia 22203 (703-358-2105).

SUPPLEMENTARY INFORMATION:

Background

In accordance with the Act and the Reorganization Plan No. 4 of 1970, NMFS has jurisdiction over these taxa. Under section 4(a)(2) of the Endangered Species Act of 1973, as amended (16 U.S.C. 1531 et seq.), NMFS must decide whether a species under its jurisdiction should be classified as endangered or threatened. The Service is responsible for the actual amendment of the List in 50 CFR 17.11(h).

On April 6, 2005, NMFS published a proposed rule (70 FR 17386) to list the Southern DPS of the North American green sturgeon (Acipenser medirostris) as threatened. During the public comment period for that proposed rule, NMFS received 32 comments. On April 7, 2006, NMFS published a final rule to list the Southern DPS of the North American green sturgeon as threatened (71 FR 17757). The listing was effective as of June 6, 2006. In that final rule, NMFS addressed all public comments received in response to the proposed rule.

On May 9, 2005, NMFS published a proposed rule (70 FR 24359) to list the elkhorn coral (Acropora palmata) and staghorn coral (Acropora cervicornis) as threatened. During the public comment period for that proposed rule, NMFS received 1,393 comments. On May 9, 2006, NMFS published a final rule to list the elkhorn and staghorn corals as threatened (71 FR 26852). The listing was effective as of June 8, 2006. In that final rule, NMFS addressed all public comments received in response to the proposed rule.

On December 22, 2004, NMFS published a proposed rule (69 FR 76673) to list the Southern Resident killer whale DPS (Orcinus orca) as threatened. During the public comment period for that proposed rule, NMFS received 1,326 comments. On November 18, 2005, NMFS published a final rule to list the Southern Resident killer whale DPS as threatened (70 FR 69903). The listing was effective as of February 16, 2006. In that final rule, NMFS addressed all public comments received in response to the proposed rule.

Because NMFS provided a public comment period on the proposed rules for these taxa, and because this action of the Service to amend the List in accordance with the determination by NMFS is nondiscretionary, the Service finds good cause that the notice and public comment procedures of 5 U.S.C. 553(b) are unnecessary for this action. We also find good cause under 5 U.S.C. 553(d)(3) to make this rule effective immediately. The NMFS rules extended protection under the Act to these species and listed them in 50 CFR part 224; this rule is an administrative action to add the species to the List of Endangered and Threatened Species in 50 CFR 17.11(h). The public would not be served by delaying the effective date of this rulemaking action.

For more information concerning these two listing determinations, please consult the respective rules published in the Federal Register.

Required Determinations

National Environmental Policy Act

The Service has determined that an Environmental Assessment, as defined under the authority of the National Environmental Policy Act of 1969, need not be prepared in connection with regulations adopted pursuant to section 4(a) of the Act. A notice outlining the Service's reasons for this determination was published in the Federal Register on October 25, 1983 (48 FR 49244).

Paperwork Reduction Act

The Service has examined this regulation under the Paperwork Reduction Act of 1995 and found it to contain no information collection requirements. We may not conduct or sponsor, and you are not required to respond to, a collection of information unless it displays a currently valid Office of Management and Budget (OMB) control number.

List of Subjects in 50 CFR Part 17

Endangered and threatened species, Exports, Imports, Reporting and recordkeeping requirements, Transportation.

Regulation Promulgation

Accordingly, part 17, subchapter B of chapter I, title 50 of the Code of Federal Regulations, is amended as set forth below:

PART 17—[AMENDED]

1. The authority citation for part 17 continues to read as follows:

Authority: 16 U.S.C. 1361-1407; 16 U.S.C. 1531-1544; 16 U.S.C. 4201-4245; Pub. L. 99-625, 100 Stat. 3500, unless otherwise noted.

2. Amend § 17.11(h) by:

a. Adding the subheading “CORALS” at the end of the table; and

b. Adding the following entries, in alphabetical order under MAMMALS, FISHES, and CORALS, respectively, to the List of Endangered and Threatened Wildlife:

§ 17.11 Endangered and threatened wildlife.

* * * * *

(h) * * *

Species: Common name | Species: Scientific name | Historic range | Vertebrate population where endangered or threatened | Status | When listed | Critical habitat | Special rules
MAMMALS
* * * * * * *
Whale, killer | Orcinus orca | Pacific Ocean | Southern Resident DPS, which consists of whales from the J, K, and L pods, wherever they are found in the wild | E | 756 | NA | NA
* * * * * * *
FISHES
* * * * * * *
Sturgeon, North America green | Acipenser medirostris | U.S.A. (CA) | U.S.A. (CA) Southern Distinct Population Segment, which includes all spawning populations south of the Eel River (exclusive), principally including the Sacramento River spawning population | T | 756 | NA | NA
* * * * * * *
CORALS
Coral, elkhorn | Acropora palmata | U.S.A. (FL, PR, VI, Navassa); and wider Caribbean-Belize, Colombia, Costa Rica, Guatemala, Honduras, Mexico, Nicaragua, Panama, Venezuela, and all the islands of the West Indies | N/A | T | 756 | NA | NA
Coral, staghorn | Acropora cervicornis | U.S.A. (FL, PR, VI, Navassa); and wider Caribbean-Belize, Colombia, Costa Rica, Guatemala, Honduras, Mexico, Nicaragua, Panama, Venezuela, and all the islands of the West Indies | N/A | T | 756 | NA | NA

Dated: March 23, 2007.
Kenneth Stansell,
Acting Director, U.S. Fish and Wildlife Service.

[FR Doc. E7-6188 Filed 4-3-07; 8:45 am]

BILLING CODE 4310-55-P